DEPARTMENT OF HOMELAND SECURITY

Federal Emergency Management Agency

[Docket ID: FEMA-2017-0010; OMB No. 1660-0047]

Agency Information Collection Activities: Submission for OMB Review; Comment Request; Request for Federal Assistance Form—How To Process Mission Assignments in Federal Disaster Operations

AGENCY: Federal Emergency Management Agency, DHS.

ACTION: Notice.

SUMMARY: The Federal Emergency Management Agency (FEMA) will submit the information collection abstracted below to the Office of Management and Budget for reinstatement and clearance in accordance with the requirements of the Paperwork Reduction Act of 1995. The reinstatement submission will describe the nature of the information collection, the categories of respondents, the estimated burden (i.e., the time, effort and resources used by respondents to respond) and cost, and the actual data collection instruments FEMA will use.

DATES: Comments must be submitted on or before July 28, 2017.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Patricia Pritchett, Program Specialist, Response Directorate, Operations Division, National Response Coordination Center, Federal Emergency Management Agency, (202) 646-3411.

SUPPLEMENTARY INFORMATION: This information collection previously published in the Federal Register on March 29, 2017, at 82 FR 15531, with a 60 day comment period. No comments were received. This information collection expired on May 31, 2017. FEMA is requesting a reinstatement of the collection with change. The changes include an increase in annual burden hours due to the addition of new FEMA Form 010-0-8A, Mission Assignment Task Order. The purpose of this notice is to inform the public that FEMA will submit the information collection abstracted below to the Office of Management and Budget for reinstatement and clearance.

Collection of Information

Title: Request for Federal Assistance Form—How to Process Mission Assignments in Federal Disaster Operations.

Type of Information Collection: Reinstatement, with change, of a previously approved information collection for which approval has expired.

OMB Number: 1660-0047.

Form Titles and Numbers: FEMA Form 010-0-7, Resource Request Form; FEMA Form 010-0-8, Mission Assignment; FEMA Form 010-0-8A, Mission Assignment Task Order.

Abstract: If a State determines that its capacity to respond to a disaster exceeds its available resources, it may submit to FEMA a request that the work be accomplished by a Federal agency. This request documents how the response requirements exceed the capacity for the State to respond to the situation on its own and what type of assistance is required. FEMA reviews this information and may issue a mission assignment to the appropriate Federal agency to assist the State in its response to the situation.

Affected Public: State, local or Tribal Government.

Number of Respondents: 10.

Estimated Total Annual Burden Hours: 6,559 hours.

Estimated Cost: The estimated annual cost to respondents for the hour burden is $446,144. There are no annual costs to respondents operations and maintenance costs for technical services. There are no annual start-up or capital costs. The cost to the Federal Government is $28,309.27.

Dated: June 22, 2017.
Richard Mattison,
Records Management Program Chief, Mission Support, Federal Emergency Management Agency, Department of Homeland Security.

[FR Doc. 2017-13558 Filed 6-27-17; 8:45 am]

BILLING CODE 9110-24-P